DEPARTMENT OF TRANSPORTATION

National Highway Traffic Safety Administration

49 CFR Part 571

Federal Motor Vehicle Safety Standards; Denial of Petition for Rulemaking

AGENCY: National Highway Traffic Safety Administration (NHTSA), DOT.

ACTION: Denial of petition for rulemaking.

SUMMARY: Based on the agency's evaluation, NHTSA denies the petition for rulemaking from Mr. Kazyaka of TVK Industries, Inc. to amend our safety standards to require the shift patterns on vehicles equipped with manual transmissions to be illuminated and to indicate the gear selected.

FOR FURTHER INFORMATION CONTACT: For non-legal issues, contact Mr. William D. Evans, Office of Crash Avoidance Standards, phone (202) 366-2272. For legal issues, contact Dorothy Nakama, Office of Chief Counsel, phone (202) 366-2992. You may send mail to both of these officials at the National Highway Traffic Safety Administration, 400 Seventh Street, SW., Washington, DC 20590.

SUPPLEMENTARY INFORMATION:

Background

On October 15, 2003, NHTSA responded to a request for interpretation from Mr. Thomas V. Kazyaka of TVK Industries, Inc. regarding Federal Motor Vehicle Safety Standard (FMVSS) No. 102. Mr. Kazyaka expressed the view that manual transmission shift patterns are required to be backlit and must display the shift lever position in order to comply with S3.2 of FMVSS No. 102. TVK Industries, Inc. markets the SureShifter, which is an aftermarket device that illuminates the shift pattern and indicates the shift lever position on manual transmission-equipped vehicles. NHTSA interpreted S3.2 of FMVSS No. 102 as not requiring manual transmission shift patterns to have backlighting or to identify the shift lever position. The interpretation also stated that no other FMVSSs require vehicles with only manual transmissions to have shift pattern backlighting or to identify the shift lever position.

On December 9, 2003, NHTSA responded to another letter from Mr. Kazyaka, which requested reconsideration of the October 2003 interpretation. In response, NHTSA restated the position expressed in its original interpretation of FMVSS No. 102 to Mr. Kazyaka. Paragraph S3.2 of FMVSS No. 102 requires the identification of the shift lever pattern of manual transmissions, however, it does not require identification of the shift lever position nor backlighting.

On March 9, 2004, NHTSA received a “Petition for Rulemaking, Defect, and Non-compliance Orders” from Mr. Kazyaka per 49 CFR Part 552. In this document, Mr. Kazyaka cites several sections in FMVSS Nos. 101 and 102 and petitions the Administrator to initiate a proceeding to determine whether to issue an order concerning the notification and remedy of a failure of motor vehicles equipped with manually shifted transmissions and replacement manual shift knob equipment as specified by FMVSS No. 101 and FMVSS No. 102. This notice responds to Mr. Kazyaka's recent petition.

Petition Response

In his petition, Mr. Kazyaka cites several sections in FMVSS No. 101 and claims that these sections require the shift patterns on manual transmission-equipped vehicles to have backlighting and to indicate the shift lever position. The purpose of FMVSS No. 101 is to ensure the accessibility and visibility of motor vehicle controls and displays. In FMVSS No.101, the only place where manual shift levers are mentioned is under S5.1 (Location of Hand Operated Controls). This section requires that the manual transmission shift lever be in a location where it is operable by and visible to the driver when restrained by crash protection equipment. This requirement refers strictly to the location of the manual transmission shift lever and does not require the lever or shift pattern to be visible under low light conditions. There is no other mention of the manual gearshift lever in FMVSS No. 101. In S5.3.1, under illumination requirements, hand-operated controls mounted upon the floor, floor console or steering column are specifically excluded from illumination requirements. Since they are mounted on the floor, manual transmission gearshift levers are excluded from FMVSS No. 101 illumination requirements. Therefore, FMVSS No. 101 does not require the shift patterns of vehicles equipped with manual transmissions to have backlighting or to indicate the shift lever position.

In the petition, there were also sections in FMVSS No. 102 cited as justification for illuminating shift patterns and indicating shift lever positions on manual transmission-equipped vehicles. One of the purposes of FMVSS No. 102 is to reduce the likelihood of shifting errors. For automatic transmission-equipped vehicles, there are requirements for the shift sequence, the identification of shift lever positions, the identification of shift positions in relation to one another and the identification of the gear selected. The only requirement for manual transmission-equipped vehicles is that the shift lever pattern must be identified and in view of the driver when the driver is present in the driver's seating position. This requirement refers strictly to the location of the shift lever pattern and in no way refers to illumination of the shift pattern under low light conditions. Also, it does not require identification of the shift lever position.

Mr. Kazyaka interprets FMVSS Nos. 101 and 102 as requiring the illumination of manual transmission shift patterns and the identification of the shift lever position by equating them incorrectly with automatic transmission controls. The requirements for manual and automatic transmission controls are different because the controls are used differently. The shift patterns for automatic transmissions are usually in a relatively straight line and the shift positions are close together, which make it difficult for the driver to distinguish the position of the lever without looking at it. Also, automatic transmission shift levers are usually shifted when the vehicle is stationary.

The simple shift pattern identification for manual transmissions enables the driver to learn the shift positions and operate the lever. A manual transmission shift lever sequence usually has a distinct pattern. Once drivers learn the pattern, they can determine what gear their vehicles are in by feel, without looking at the pattern and the lever position each time they shift. A manual transmission shift lever is shifted very often. If drivers had to look at the shift lever and pattern each time they changed gears, this would be a tremendous distraction. The fact that the driver does not refer to the shift pattern after it is learned is evidenced by the location of the shift pattern on the majority of vehicles. The shift pattern is located on the shift lever knob, which is covered up by the driver's hand during shifting.

Mr. Kazyaka also asserts that vehicles “equipped with automatic/manual transmissions have taken to display the gear selection in dash-mounted indicators,” further noting that these devices are not available for retrofit and the “shifting pattern is not displayed.” In an interpretation letter of April 3, 1989, to Porsche addressing FMVSS No. 102 issues, NHTSA concluded that vehicles with dual function (automatic and manual) transmissions are in fact automatic transmissions for the purposes of the FMVSS. Thus, vehicles with dual function transmissions (even when the driver selects the “manual” mode) must meet the illumination and identification of shift lever position requirements, as well as other requirements in FMVSS No. 102. NHTSA further notes that in these dual function vehicles, the “manual” system typically does not have gear selections in an “H” configuration, but displays the gear positions in a row.

The petition states that the consequences of motorist in manual transmission-equipped vehicles committing shifting errors while stopped at pedestrian crosswalks and railroad crossings may be fatal. It also states that multiple vehicle operators encounter various shifting patterns, and the petition claims they are at risk of causing property damage and injuries without shift pattern illumination and shift lever position identification. The petition also claims that shift pattern illumination and the identification of shift lever position are more important on vehicles equipped with idle-stop technology where the engine stops and starts automatically while the vehicle is stationary. The agency has searched both its crash and complaint databases and has found no indication of a shifting error problem relative to manual transmission-equipped vehicles both with and without the idle-stop feature. Drivers of manual transmission-equipped vehicles shift and know what gear they are in by feel. Once drivers learn their shift patterns, (a process that is completed very quickly), there is no need for them to look at the shift pattern each time they shift or want to know their gear position.

In accordance with 49 CFR part 552, this completes the agency's technical review of the petition for rulemaking from TVK Industries, Inc. NHTSA believes that Mr. Kazyaka's interpretations relative to FMVSS Nos. 101 and 102 are incorrect and the standards do not require manual transmission shift patterns to be illuminated or to indicate the shift lever position. Also, NHTSA believes that any suggested amendments to the FMVSSs that would require manual transmission shift lever patterns to be illuminated or indicate the shift lever position would not change the performance requirements in a manner that would result in improved safety. Thus, after considering the allocation of agency resources and agency priorities, NHTSA has decided that the rulemaking requested by the petitioner is not warranted. Accordingly, the rulemaking requested by the petition is denied.

Authority: 49 U.S.C. 322, 30111, 30115, 30166 and 30177; delegation of authority at 49 CFR 1.50.

Issued on: March 2, 2005.
Stephen R. Kratzke,
Associate Administrator for Rulemaking.

[FR Doc. 05-4433 Filed 3-7-05; 8:45 am]

BILLING CODE 4910-59-P